FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collection systems described below.

1. Type of Review: Renewal of a currently approved collection.

Title: Notices Required of Government Securities Dealers or Brokers (Insured State Nonmember Banks).

OMB Number: 3064-0093.

Form Number: G-FIN, G-FINW, G-FIN-4, G-FIN-5.

Annual Burden

Estimated annual number of respondents: 180.

Estimated time per response: 1 hour.

Total annual burden hours: 180 hours.

Expiration Date of OMB Clearance: July 31, 2003.

SUPPLEMENTARY INFORMATION: The Government Securities Act of 1986 requires all financial institutions acting as government securities brokers and dealers to notify their federal regulatory agencies of their broker-dealer activities, unless exempted from the notice requirement by Treasury Department regulation.

2. Type of Review: Renewal of a currently approved collection.

Title: Foreign Banks.

OMB Number: 3064-0114.

Annual Burden

Estimated annual number of respondents: 418.

Estimated time per response: ranges from ¼ hour to 120 hours.

Total annual burden hours: 4,398 hours.

Expiration Date of OMB Clearance: July 31, 2003.

SUPPLEMENTARY INFORMATION: The collection of information consists of (a) applications to operate as a noninsured state-licensed branch of a foreign bank; (b) applications from an insured state licensed branch of a foreign bank to conduct activities which are not permissible for a federally-licensed branch; (c) internal recordkeeping by insured branches of foreign banks; and (d) reporting requirements relating to an insured branch's pledge of assets to the FDIC.

3. Type of Review: Renewal of a currently approved collection.

Title: Certification of Eligibility Under the Affordable Housing Program.

OMB Number: 3064-0116.

Annual Burden

Estimated annual number of respondents: 12.

Estimated time per response: 1 hour.

Total annual burden hours: 12 hours.

Expiration Date of OMB Clearance: July 31, 2003.

SUPPLEMENTARY INFORMATION: The collection of information certifies income eligibility under the affordable housing program. This certification assists the FDIC in determining an individual's eligibility for purchasing affordable housing properties from the FDIC.

4. Type of Review: Renewal of a currently approved collection.

Title: Mutual-to-Stock Conversions of State Savings Banks.

OMB Number: 3064-0117.

Annual Burden

Estimated annual number of respondents: 10.

Estimated time per response: 50 hours.

Total annual burden hours: 500 hours.

Expiration Date of OMB Clearance: July 31, 2003.

SUPPLEMENTARY INFORMATION: 12 CFR 303.161 and 333.4 require state savings banks that are not members of the Federal Reserve System to file with the FDIC a notice of intent to convert to stock form and provide copies of documents filed with State and Federal banking and or securities regulators in connection with the proposed conversion.

5. Type of Review: Renewal of a currently approved collection.

Title: Notification of Changes in Insured Status.

OMB Number: 3064-0124.

Annual Burden

Estimated annual number of respondents: 943.

Estimated time per response: ¼ hour.

Total annual burden hours: 236 hours.

Expiration Date of OMB Clearance: July 31, 2003.

SUPPLEMENTARY INFORMATION: 12 U.S.C. 1818(q) requires an insured depository institution to provide the FDIC with a certification when it partially or completely assumes deposit liabilities from another insured depository institution.

6. Type of Review: Renewal of a currently approved collection.

Title: Applicant Background Questionnaire.

OMB Number: 3064-0138.

Form Number: 2100/14.

Annual Burden

Estimated annual number of respondents: 10,000.

Estimated time per response: 3 minutes.

Total annual burden hours: 500 hours.

Expiration Date of OMB Clearance: July 31, 2003.

SUPPLEMENTARY INFORMATION: The FDIC Applicant Background Questionnaire is completed voluntarily by FDIC job applicants who are not current FDIC employees. Responses to questions on the survey provide information on gender, age, disability, race/national origin, and to the applicant's source of vacancy announcement information. Data is used by the Office of Diversity and Economic Opportunity and the Personnel Services Branch to evaluate the effectiveness of various recruitment methods used by the FDIC to ensure that the agency meets workforce diversity objectives.

OMB Reviewer: Joseph F. Lackey, Jr., (202) 395-4741, Office of Management and Budget, Office of Information and Regulatory Affairs, Washington, DC 20503.

FDIC Contact: Tamara R. Manly, (202) 898-7453, Legal Division, Room MB 3109, Federal Deposit Insurance Corporation, 550 17th Street, NW., Washington, DC 20429.

Comments: Comments on these collections of information are welcome and should be submitted on or before [insert date 30 days after date of publication in the Federal Register] to both the OMB reviewer and the FDIC contact listed above.

ADDRESSES: Information about this submission, including copies of the proposed collections of information, may be obtained by calling or writing the FDIC contact listed above.

Dated: June 30, 2003.
Federal Deposit Insurance Corporation.
Robert E. Feldman,
Executive Secretary.

[FR Doc. 03-16950 Filed 7-3-03; 8:45 am]

BILLING CODE 6714-01-P